COMMISSION ON CIVIL RIGHTS

Agenda and Notice of Public Meeting of the New Jersey Advisory Committee

AGENCY: Commission on Civil Rights.

ACTION: Announcement of meeting.

SUMMARY: Notice is hereby given, pursuant to the provisions of the rules and regulations of the U.S. Commission on Civil Rights (Commission), and the Federal Advisory Committee Act (FACA), that a planning meeting of the New Jersey Advisory Committee to the Commission will convene by conference call, on Friday, February 19, 2021 at 1:00 p.m. (ET). The purpose of the meeting is continue planning for possible future panel briefings on the Committee's civil rights project—collateral consequences that a criminal record has on criminal asset forfeitures and access to employment-occupational licensing, and begin planning to draft the Committee's report.

DATES: Friday, February 19, 2021, at 1:00 p.m. (ET).

Public Call-In Information: Conference call number: 1-800-667-5617 and conference call ID number: 7386659.

FOR FURTHER INFORMATION CONTACT: Ivy L. Davis, at ero@usccr.gov or by phone at 202-376-7533.

SUPPLEMENTARY INFORMATION: Interested members of the public may listen to the discussion by calling the following toll-free conference call number: 1-800-667-5617 and conference call ID number: 7386659. Please be advised that before placing them into the conference call, the conference call operator may ask callers to provide their names, their organizational affiliations (if any), and email addresses (so that callers may be notified of future meetings). Callers can expect to incur charges for calls they initiate over wireless lines, and the Commission will not refund any incurred charges. Callers will incur no charge for calls they initiate over land-line connections to the toll-free telephone number herein.

Individuals who are deaf, deafblind and hard of hearing may also follow the proceedings by first calling the Federal Relay Service at 1-800-877-8339 and providing the Federal Relay Service operator with the conference call-in numbers: 1-800-667-5617 and conference call ID number: 7386659.

Members of the public are invited to make statements during the Public Comment section of the meeting or to submit written comments. The comments must be received in the regional office approximately 30 days after each scheduled meeting. Written comments may be emailed to the Eastern Regional Office, Ivy Davis at ero@usccr.gov.

Records and documents discussed during the meeting will be available for public viewing, as they become available at www.facadatabase.gov. Persons interested in the work of this advisory committee are advised to go to the Commission's website, www.usccr.gov, or contact the Eastern Regional Office at the above email address.

Agenda: Friday, February 19, 2021 at 1:00 p.m. (ET)

I. Welcome and Roll Call

II. Approval—Meeting Minutes

III. Project Planning

IV. Other Business

V. Next Meeting

VI. Public Comments

VII. Adjourn

Dated: January 22, 2021.
David Mussatt,
Supervisory Chief, Regional Programs Unit.

[FR Doc. 2021-01843 Filed 1-27-21; 8:45 am]

BILLING CODE P